Executive Order 14291 of May 1, 2025

Establishment of the Religious Liberty Commission

By the authority vested in me as President by the Constitution and the laws of the United States of America, it is hereby ordered:

Section 1. Purpose and Policy. It shall be the policy of the executive branch to vigorously enforce the historic and robust protections for religious liberty enshrined in Federal law. The Founders envisioned a Nation in which religious voices and views are integral to a vibrant public square and human flourishing and in which religious people and institutions are free to practice their faith without fear of discrimination or hostility from the Government. Indeed, the roots of religious liberty stretch back to the early settlers who fled religious persecution in Europe, seeking a new world where they could choose, follow, and practice their faith without interference from the Government. The principle of religious liberty was enshrined in American law with the First Amendment to the Constitution in 1791. Since that time, the Constitution has protected the fundamental right to religious liberty as Americans' first freedom.

During my first term, I issued Executive Order 13798 of May 4, 2017 (Promoting Free Speech and Religious Liberty). Pursuant to that order, the Attorney General issued a memorandum for all executive departments and agencies (agencies) titled “Federal Law Protections for Religious Liberty” on October 6, 2017. The Supreme Court has also continued to vindicate the Founders' commitment to religious liberty, including by giving effect to the principle that religious voices should be welcomed on an equal basis in the public square.

In recent years, some Federal, State, and local policies have threatened America's unique and beautiful tradition of religious liberty. These policies attempt to infringe upon longstanding conscience protections, prevent parents from sending their children to religious schools, threaten loss of funding or denial of non-profit tax status for faith-based entities, and single out religious groups and institutions for exclusion from governmental programs. Some opponents of religious liberty would remove religion entirely from public life. Others characterize religious liberty as inconsistent with civil rights, despite religions' vital roles in the abolition of slavery; the passage of Federal civil rights laws; and the provision of indispensable social, educational, and health services.

President Ronald Reagan reminded us that “freedom is never more than one generation away from extinction.” Americans need to be reacquainted with our Nation's superb experiment in religious freedom in order to preserve it against emerging threats. Therefore, the Federal Government will promote citizens' pride in our foundational history, identify emerging threats to religious liberty, uphold Federal laws that protect all citizens' full participation in a pluralistic democracy, and protect the free exercise of religion.

Sec. 2. Establishment of the Religious Liberty Commission. (a) There is hereby established the Religious Liberty Commission (Commission).

(b) The Commission shall function as follows:

(i) The Commission shall be composed of up to 14 members appointed by the President. Members of the Commission shall include individuals chosen to serve as educated representatives of various sectors of society, including the private sector, employers, educational institutions, religious communities, and States, to offer diverse perspectives on how the Federal Government can defend religious liberty for all Americans. The President shall designate a Chairman and Vice Chairman from among the members. The Commission shall also include the following ex officio members or such senior officials as those members may designate:

(A) the Attorney General;

(B) the Secretary of Housing and Urban Development; and

(C) the Assistant to the President for Domestic Policy.

(ii) Members appointed to the Commission shall serve one term ending on July 4, 2026, which marks the 250th anniversary of American Independence. If the term of the Commission is extended by the President beyond July 4, 2026, members shall be eligible for reappointment for a 2-year term. Members may continue to serve after the expiration of their terms until the appointment of a successor.

(iii) The Commission shall produce a comprehensive report on the foundations of religious liberty in America, the impact of religious liberty on American society, current threats to domestic religious liberty, strategies to preserve and enhance religious liberty protections for future generations, and programs to increase awareness of and celebrate America's peaceful religious pluralism. Specific topics to be considered by the Commission under these categories shall include the following areas: the First Amendment rights of pastors, religious leaders, houses of worship, faith-based institutions, and religious speakers; attacks across America on houses of worship of many religions; debanking of religious entities; the First Amendment rights of teachers, students, military chaplains, service members, employers, and employees; conscience protections in the health care field and concerning vaccine mandates; parents' authority to direct the care, upbringing, and education of their children, including the right to choose a religious education; permitting time for voluntary prayer and religious instruction at public schools; Government displays with religious imagery; and the right of all Americans to freely exercise their faith without fear or Government censorship or retaliation.

(iv) The Commission shall advise the White House Faith Office and the Domestic Policy Council on religious liberty policies of the United States. Specific activities of the Commission shall include, to the extent permitted by law, recommending steps to secure domestic religious liberty by executive or legislative actions as well as identifying opportunities for the White House Faith Office to partner with the Ambassador at Large for International Religious Freedom to further the cause of religious liberty around the world.

(v) Members of the Commission shall serve without any compensation for their work on the Commission. Members of the Commission, while engaged in the work of the Commission, may be allowed travel expenses, including per diem in lieu of subsistence, to the extent permitted by law for persons serving intermittently in Government service (5 U.S.C. 5701-5707), consistent with the availability of funds.

(vi) To advise members of the Commission:

(A) An Advisory Board of Religious Leaders shall be designated by the President and shall consist of not more than 15 members. The Advisory Board of Religious Leaders shall be a subcomponent of the Commission and report to the Chairman of the Commission;

(B) An Advisory Board of Lay Leaders from religious congregations shall be designated by the President and shall consist of not more than 15 members. The Advisory Board of Lay Leaders shall be a subcomponent of the Commission and report to the Chairman of the Commission; and

(C) An Advisory Board of Legal Experts shall be designated by the President and shall consist of the Attorney General, or the Attorney General's designee, and not more than 10 attorneys. The Advisory Board of Legal Experts shall be a subcomponent of the Commission and report to the Chairman of the Commission.

(vii) The Commission shall terminate on July 4, 2026, which marks the 250th anniversary of American Independence, unless extended by the President.

(viii) The Department of Justice shall provide such funding and administrative and technical support as the Commission may require, to the extent permitted by law and as authorized by existing appropriations.

(ix) Insofar as the Federal Advisory Committee Act (chapter 10 of title 5, United States Code) may apply to the Commission or any of its Advisory Boards, any functions of the President under that Act, except for those in sections 1005 and 1013 of that Act, shall be performed by the Attorney General, in accordance with the guidelines and procedures established by the Administrator of General Services.

Sec. 3. Severability. If any provision of this order, or the application of any provision to any agency, person, or circumstance, is held to be invalid, the remainder of this order and the application of its provisions to any other agencies, persons, or circumstances shall not be affected thereby.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 1, 2025.

[FR Doc. 2025-08134

Filed 5-6-25; 11:15 am]

Billing code 3395-F4-P